DEPARTMENT OF COMMERCE

Foreign-Trade Zones Board

(Docket 45-2007)

Foreign-Trade Zone 49 -- Newark, New Jersey, Area, Application for Subzone Status In Mocean Group, LLC (Swimwear/Beach Accessories), North Brunswick, New Jersey

An application has been submitted to the Foreign-Trade Zones Board (the Board) by the Port Authority of New York and New Jersey, grantee of FTZ 49, requesting special-purpose subzone status for the distribution facility of In Mocean Group, LLC (IMG), located in North Brunswick, New Jersey. The application was submitted pursuant to the provisions of the Foreign-Trade Zones Act, as amended (19 U.S.C. 81a-81u), and the regulations of the Foreign-Trade Zones Board (15 CFR part 400). It was formally filed on August 31, 2007.

The IMG facility (146,150 sq. ft., with possible expansion of an additional 100,000 sq. ft., on 22 acres; 100 employees) is located at 2400 Route U.S. 1 in North Brunswick. The facility is used for the receipt, storage, manipulation (repacking/sorting) and distribution of swimwear and beach accessories. The products are distributed throughout the U.S. and abroad.

FTZ procedures could exempt IMG from Customs duty payments on foreign products that are re-exported. Some 5 percent of the facility's shipments are exported. On domestic sales, the company would be able to defer payments until merchandise is shipped from the facility and entered for U.S. consumption. IMG also plans to realize logistical benefits through the use of weekly entry procedures. The application indicates that zone savings would help improve the international competitiveness of the distribution facility.

In accordance with the Board's regulations, a member of the FTZ Staff has been designated examiner to investigate the application and report to the Board.

Public comment is invited from interested parties. Submissions (original and 3 copies) shall be addressed to the Board's Executive Secretary at the address below. The closing period for their receipt is November 13, 2007. Rebuttal comments in response to material submitted during the foregoing period may be submitted during the subsequent 15-day period November 26, 2007.

A copy of the application and accompanying exhibits will be available for public inspection at each of the following locations: U.S. Department of Commerce, Export Assistance Center, 20 West State Street, Trenton, NJ 08625; and, Office of the Executive Secretary, Foreign-Trade Zones Board, Room 2111, U.S. Department of Commerce, 1401 Constitution Avenue, NW., Washington, DC 20230.

For further information, contact Camille Evans at Camille_Evans@rita.doc.gov. or (202) 482-2350.

Dated: September 4, 2007.
Andrew McGilvray,
Executive Secretary.

[FR Doc. E7-17858 Filed 9-10-07; 8:45 am]

BILLING CODE 3510-DS-S